DEPARTMENT OF COMMERCE

National Oceanic and Atmospheric Administration

50 CFR Part 665

[Docket No. 240725-0204]

RIN 0648-BM76

Pacific Island Fisheries; Annual Catch Limit and Accountability Measure for the Commonwealth of the Northern Mariana Islands Bottomfish in 2024-2025

AGENCY: National Marine Fisheries Service (NMFS), National Oceanic and Atmospheric Administration (NOAA), Department of Commerce.

ACTION: Final rule.

SUMMARY: This final rule implements an annual catch limit (ACL) and annual catch target (ACT) for bottomfish in the Commonwealth of the Northern Mariana Islands (CNMI) for fishing years 2024 and 2025. This rule does not revise, add, or remove the most recent current accountability measure (AM) in NOAA's regulations. Under that AM, NMFS will reduce the ACL and ACT in the following fishing year by the amount of the overage if the average catch from the most recent 3 years exceeds the ACL. This final rule supports the long-term sustainability of the CNMI bottomfish fishery.

DATES: This rule is effective August 30, 2024.

ADDRESSES: Background information on the bottomfish fishery in the Commonwealth of the Northern Mariana Islands is found in the Fishery Ecosystem Plan for the Mariana Archipelago (FEP) available from the Western Pacific Regional Fishery Management Council, 1164 Bishop St., Suite 1400, Honolulu, HI 96813, telephone 808-522-8220, fax 808-522-8226, or https://www.wpcouncil.org. Copies of supporting documents for this action are available at https://www.regulations.gov/docket/NOAA-NMFS-2024-0002, or from Sarah Malloy, Acting Regional Administrator, NMFS Pacific Islands Regional Office (PIRO), 1845 Wasp Blvd., Bldg. 176, Honolulu, HI 96818.

FOR FURTHER INFORMATION CONTACT: Keith Kamikawa, NMFS Pacific Islands Regional Office, Sustainable Fisheries, 808-725-5177.

SUPPLEMENTARY INFORMATION: NMFS and the Western Pacific Regional Fishery Management Council (Council) manage the bottomfish fishery in the U.S. Exclusive Economic Zone (i.e., Federal waters, generally 3-200 nautical miles (nmi) (345 kilometers (km)) around the CNMI under the Fishery Ecosystem Plan for the Mariana Archipelago (FEP), as authorized by the Magnuson-Stevens Fishery Conservation and Management Act (Magnuson-Stevens Act). Consistent with the process in the FEP, the Council and NMFS must specify ACLs, ACTs, and AMs for each stock and stock complex of each management unit species (MUS), as recommended by the Council, and must consider the best available scientific, commercial, and other information about the fishery. If a fishery exceeds an ACL, regulations require the Council to act (e.g., enactment of an AM reducing the ACL for the subsequent fishing year by the amount of the overage). ACTs can be used as an additional management measure to help ensure catch does not exceed the ACL.

NMFS is implementing for the CNMI bottomfish fishery an ACL of 82,000 pounds (lb) (37,195 kilograms (kg)) and an ACT of 75,000 lb (34,019 kg) (Table 1). The fishing year begins on January 1 and ends on December 31, and catch from both territorial waters (generally from the shoreline to 3 nmi, (5.6 km offshore)) and Federal waters will be counted towards the ACL and ACT.

Table 1—Annual Catch Limits and Annual Catch Targets for the CNMI Bottomfish Complex
| 2024 | 2025
ACL (lb) | 82,000 | 82,000
ACT (lb) | 75,000 | 75,000

The rule will not change the current AM for the CNMI bottomfish fishery: if the average catch of the three most recent years exceeds the specified ACL in a fishing year, NMFS will reduce the ACL and the ACT for the subsequent year by the amount of the overage in a separate rulemaking. If the average catch from the most recent 3-year period exceeds the ACT, but is below the ACL, NMFS will not apply a post-season correction.

This rule is consistent with recommendations made by the Council at its 195th meeting in June 2023. Additional background information on this action is in the preamble to the proposed rule (89 FR 45623, May 23, 2024).

Comments and Responses

On May 23, 2024, NMFS published a proposed rule and request for public comments (89 FR 45623). The comment period ended on June 24, 2024. NMFS received one public comment about offshore wind and the North Atlantic right whale, which is not related to the proposed rule or any other relevant topic. Therefore, NMFS made no changes to the final rule based on the public comment received.

Changes From the Proposed Rule

This final rule contains no changes from the proposed rule.

Classification

Pursuant to section 304(b)(1)(A) of the Magnuson-Stevens Act, the NMFS Assistant Administrator has determined that this proposed rule is consistent with the FEP, other provisions of the Magnuson-Stevens Act, and other applicable law.

The Chief Counsel for Regulation of the Department of Commerce certified to the Chief Counsel for Advocacy of the Small Business Administration during the proposed rule stage that this action would not have a significant economic impact on a substantial number of small entities. The factual basis for the certification was published in the proposed rule and is not repeated here. No relevant comments were received regarding this certification. As a result, a final regulatory flexibility analysis was not required and none was prepared.

This final rule has been determined to be not significant for purposes of Executive Order 12866.

This final rule contains no information collection requirements under the Paperwork Reduction Act of 1995.

List of Subjects in 50 CFR Part 665

Fisheries, Fishing, Commonwealth of the Northern Mariana Islands, Bottomfish management unit species, Annual catch limit, Accountability measure, Pacific Islands, Western Pacific.

Dated: July 25, 2024.
Kimberly Damon-Randall,
Acting Deputy Assistant Administrator for Regulatory Programs, National Marine Fisheries Service.

For the reasons set out in the preamble, NMFS amends 50 CFR part 665 as follows:

PART 665—FISHERIES IN THE WESTERN PACIFIC

1. The authority citation for 50 CFR part 665 continues to read as follows:

Authority: 16 U.S.C. 1801 et seq.

2. In § 665.408, revise paragraph (a) to read as follows:

§ 665.408 CNMI Annual Catch Limits (ACL) and Annual Catch Targets (ACT).

(a) In accordance with § 665.4, the ACL and ACT for Mariana bottomfish MUS in the CNMI Management Subarea for each fishing year are as follows:

Table 1 to Paragraph (a)
| 2024 | 2025
ACL (lb) | 82,000 | 82,000
ACT (lb) | 75,000 | 75,000

* * * * *

[FR Doc. 2024-16822 Filed 7-30-24; 8:45 am]

BILLING CODE 3510-22-P